DEPARTMENT OF AGRICULTURE

Agricultural Marketing Service

[Docket Number TM-05-10]

National Organic Program (NOP)

AGENCY: Agricultural Marketing Service, USDA.

ACTION: Notice.

SUMMARY: The U.S. Department of Agriculture's (USDA) Agricultural Marketing Service (AMS) is publishing this notice to inform certified organic producers and handlers of AMS' intention to release the names and addresses of certified operations to the general public. AMS has determined that the Organic Foods Production Act of 1990, as amended, 7 U.S.C. 6501 et seq. (OFPA), authorizes the release of the names and addresses of certified organic producers and handlers under the broad category of information characterized by the OFPA as “certification documents.” Therefore, AMS intends to release the names and addresses of certified producers and handlers to the general public in response to requests for such information.

FOR FURTHER INFORMATION CONTACT: Keith Jones, Director, Program Development, National Organic Program, 1400 Independence Ave., SW., Room 4008-S, Ag Stop 0268, Washington, DC 20250-0268; Telephone: (202) 720-3252; Fax: (202) 205-7808; e-mail: keith.jones@usda.gov.

SUPPLEMENTARY INFORMATION:

I. Statutory Authority

This notice is issued under the authority of the OFPA of 1990, as amended, 7 U.S.C. 6501 et seq.

II. Background

Over the past few months, AMS has received a number of requests from private citizens and non-profit organizations for a list of names and addresses of production and handling operations certified in compliance with the NOP regulations. The OFPA requires public access to “certification documents” and laboratory analyses pertaining to certification (7 U.S.C. 6506(a)(9)). The OFPA's implementing regulations at 7 CFR 205.504(b)(5) requires the release of those documents cited in section 6506(a)(9) of the OFPA.

AMS collects the names and addresses of certified organic producers and handlers through requirements outlined at 7 CFR 205.501(a)(15)(ii). This information is collected pursuant to information collection requirements overseen by the Office of Management and Budget (OMB) in accordance with the Paperwork Reduction Act of 1995, 44 U.S.C. 3501 et seq. The collection number assigned to the NOP is OMB number 0581-0191.

III. Action

The OFPA authorizes the release of the names and addresses of certified organic producers and handlers under the broad category of information characterized by the OFPA as “certification documents.” The OFPA (7 U.S.C. 6506(a)(9)) requires public access to certification documents and laboratory analyses pertaining to certification. Names and addresses of certified organic producers and handlers are collected by AMS under the requirements of 7 CFR 205.501(a)(15)(ii). These names and addresses are part of a larger information submission and can be reasonably viewed as “certification documents.”

The release of the names and addresses of certified organic producers and handlers is compatible with the notions of transparency and public access embodied in the OFPA. Further, the names and addresses of certified organic producers and handlers intended to be released are identical to those already contained on the certificate of compliance required under 7 CFR 205.404(b). Under 7 CFR 205.404(b), an accredited certifying agent must issue a certificate of organic operations which specifies the: (1) Name and address of the certified operation; (2) Effective date of certification; (3) Categories of organic operation, including crops, wild crops, livestock, or processed products produced by the certified operation; and (4) Name, address, and telephone number of the certifying agent. These certificates enjoy wide public circulation throughout the supply chain due to their use as prima facie evidence of compliance with NOP regulations.

Therefore, AMS intends to release the names and addresses of certified producers and handlers to the general public in response to requests for such information.

Dated: September 2, 2005.
Lloyd C. Day,
Administrator, Agricultural Marketing Service.

[FR Doc. 05-17859 Filed 9-8-05; 8:45 am]

BILLING CODE 3410-02-P